DEPARTMENT OF AGRICULTURE

Forest Service

Information Collection; Perceptions of Risk, Trust, Responsibility, and Management Preferences Among Fire-Prone Communities in the Western United States

AGENCY: Forest Service, USDA.

ACTION: Notice; Request for Comment.

SUMMARY: In accordance with the Paperwork Reduction Act of 1995, the Forest Service is seeking comments from all interested individuals and organizations on the extension with revision of a currently approved information collection, Perceptions of Risk, Trust, Responsibility, and Management Preferences among Fire-Prone Communities in the Western United States.

DATES: Comments must be received in writing on or before March 14, 2008 to be assured of consideration. Comments received after that date will be considered to the extent practicable.

ADDRESSES: Comments concerning this notice should be addressed to Patricia L. Winter, Pacific Southwest Research Station, Forest Service, U.S. Department of Agriculture, 4955 Canyon Crest Drive, Riverside, CA 92507.

Comments also may be submitted via facsimile to 951-680-1501 or by e-mail to: pwinter@fs.fed.us.

The public may inspect comments received at Building One Reception, 4955 Canyon Crest Drive, Riverside, CA 92507, during normal business hours. Visitors are encouraged to call ahead to (951) 680-1500 to facilitate entry to the building.

FOR FURTHER INFORMATION CONTACT: Patricia L. Winter, Pacific Southwest Research Station, Forest Service, U.S. Department of Agriculture, 951-680-1557. Individuals who use telecommunication devices for the deaf (TDD) may call the Federal Relay Service (FRS) at 1-800-877-8339, 24 hours a day, every day of the year, including holidays.

SUPPLEMENTARY INFORMATION: Title: Perceptions of Risk, Trust, Responsibility, and Management Preferences among Fire-Prone Communities in the Western United States.

OMB Number: 0596-0186.

Expiration Date of Current Approval: July 31, 2008.

Type of Request: Extension with revision of a currently approved collection.

Abstract: The purpose of this survey is to determine the perceptions of risk, trust, responsibility, and management preferences among individuals residing in fire-prone communities in the Western United States.

Forest Service and university researchers will contact community residents within or adjacent to national forests in the Western United States. Through those contacts, researchers will evaluate concerns about fire and fire risk; knowledge about fire; values focused on fire management; trust, objectives, and alternatives for fire management; personal experiences with fire; stressors associated with fire and fire risk; responsibility and accomplishments for fire management; sources of concern about fire; future orientation; and socio-demographics.

The results will help researchers improve the ability to provide information to natural resource managers on public perceptions of fire and fire management. To gather the information, residents within, or adjacent to, national forests in the Western United States will be contacted through mailed or e-mail correspondence or by telephone inviting their participation in a focus group study. Willing or interested parties will contact the researcher and be scheduled into sessions in their community. Those agreeing to participate will be involved in a focus group discussion and complete a self-administered survey.

A Forest Service researcher and analyst/technicians will collect and analyze the information with the assistance of a cooperating university researcher. Both researchers are experts in applied social psychology and survey research.

Participants will first complete a questionnaire focused on the individual's concern about fire, knowledge about fire, values similarity with the Forest Service, trust, objectives for fire management, personal experience with fire, stressors of fire and fire risk, responsibility for risk reduction, accomplishment of risk reduction, sources of concern about fire, future orientation, and sociodemographics. Participants (age 18 or older) residing in the selected communities are then invited via mail, e-mail, or telephone to participate in a discussion on the following topics: objectives, values, and concerns in fire management; alternatives for accomplishing objectives; values/goals and trust; and information needs and interests. When possible, multiple sessions will be held in each community to accommodate as many participants as are interested. Responses will be voluntary and anonymous.

Responses will be used to evaluate the values linked to fire and fire management among forest community residents, personal experiences with fire and how participants have addressed fire risk, perceived responsibility and accomplishments in addressing fire risk, and personal characteristics that might influence these responses. The data collected will assist researchers in determining public perception and expectations regarding fire management and risk, as well as providing information on how residents address these issues. Such data is valuable to forest resource managers, who use the information when selecting long and short-term fire management strategies, and in developing public information strategies on fire and fire management.

Without this information, managers will have to rely on the scant information otherwise available on current and changing public views regarding fire and fire management, and the anecdotal information collected through direct experiences with the public regarding impacts of fire and fire risk. The intent is to share the collected data with other researchers studying fire management, and other natural resource management values and objectives.

Estimate of Annual Burden: 2.3 hours.

Type of Respondents: Respondents are community residents in various locations within or adjacent to national forests in the Western United States.

Estimated Annual Number of Respondents: 200.

Estimated Annual Number of Responses per Respondent: 2.

Estimated Total Annual Burden on Respondents: 460.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: January 3, 2008.
Ann M. Bartuska,
Deputy Chief for Research & Development.

[FR Doc. E8-368 Filed 1-11-08; 8:45 am]

BILLING CODE 3410-11-P